RAILROAD RETIREMENT BOARD

Proposed Collection; Comment Request

SUMMARY: In accordance with the requirements of Section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection: Student Beneficiary Monitoring; OMB 3220-0123.

Under provisions of the Railroad Retirement Act (RRA), there are two types of benefits whose payment is based upon the status of a child being a full-time student, a survivor benefit under Section 2 and an increased retirement benefit under Section 3(f)(3). A survivor benefit is paid directly to the student unless there is a representative payee. The benefit for a student in a life case is paid by increasing the retired parent's annuity rate under the overall minimum guaranty. The requirements for obtaining benefits based on full-time student status are prescribed in 20 CFR 219.54 and 219.55.

The RRB requires evidence of full-time school attendance in order to determine that a child is entitled to student benefits. The RRB utilizes the following forms to conduct its student monitoring program. Form G-315, Student Questionnaire, obtains certification of a student's full-time school attendance. It also obtains information on a student's marital status, Social Security benefits, and employment which are needed to determine entitlement or continued entitlement to benefits under the RRA. Form G-315a, Statement by School Official of Student's Full-time Attendance, is used to obtain verification from a school that a student attends school full-time and provides their expected graduation date. Form G-315a.1, Notice of Cessation of Full-Time Attendance, is used by a school to notify the RRB that a student has ceased full-time school attendance. Completion is required to obtain or retain a benefit. One response is requested of each respondent.

The RRB proposes no changes to Form G-315, G-315a, or G-315a.1. The completion time for the G-315 is estimated at seven minutes per response. The completion time for the G-315a and G-315a.1 is estimated at two minutes. The RRB estimates that approximately 960 Form G-315's, 210 Form G-315a's and 60 Form G-315a.1's are received annually.

Additional Information or Comments: To request more information or to obtain a copy of the information collection justification, forms, and/or supporting material, please call the RRB Clearance Officer at (312) 751-3363. Comments regarding the information collection should be addressed to Ronald J. Hodapp, Railroad Retirement Board, 844 North Rush Street, Chicago, Illinois 60611-2092. Written comments should be received within 60 days of this notice.

Chuck Mierzwa,
Clearance Officer.

[FR Doc. 00-14649 Filed 6-8-00; 8:45 am]

BILLING CODE 7905-01-M